FEDERAL COMMUNICATIONS COMMISSION

47 CFR Part 74

[ET Docket No. 01-75; FCC 02-298]

Broadcast Auxiliary Service Rules

AGENCY: Federal Communications Commission.

ACTION: Final rule; correction.

SUMMARY: Federal Communications Commission published in the Federal Register of March 17, 2003, a document amending rules for Broadcast Auxiliary Services to introduce new technologies and conforming rules for Broadcast Auxiliary Services, Cable Television Relay Service, and Fixed Microwave Services. Inadvertently, the amendatory instruction for § 74.602 specified removing and revising paragraph (a)(2). This document revises the amendatory instruction to specify removing and reserving paragraph (a)(2).

DATES: Effective April 16, 2003.

FOR FURTHER INFORMATION CONTACT: Ted Ryder, Office of Engineering and Technology, (202) 418-2803.

SUPPLEMENTARY INFORMATION: The FCC published a document in the Federal Register of March 17, 2003, (68 FR 12743) inadvertently specifying, in the amendatory instruction for § 74.602, removing and revising paragraph (a)(2). This correction revises the amendatory language to specify removing and reserving paragraph (a)(2).

In rule FR Doc. 03-4176 published on March 17, 2003 (68 FR 12743) make the following correction. On page 12768, in the second column, revise the amendatory instruction for § 74.602 to read as follows:

PART 74—[CORRECTED]

§ 74.602 [Corrected]

Section 74.602 is amended by revising paragraphs (a) introductory text, the channel boundaries for channel designation B03 in the table of paragraph (a), footnote 2 of the table of paragraph (a), paragraphs (d), (f), (h), and (i) introductory text, and by removing and reserving paragraph (a)(2) to read as follows:

Federal Communications Commission.
Marlene H. Dortch,
Secretary.

[FR Doc. 03-8578 Filed 4-9-03; 8:45 am]

BILLING CODE 6712-01-P